SOCIAL SECURITY ADMINISTRATION

Agency Information Collection Activities: Proposed Request and Comment Request

The Social Security Administration (SSA) publishes a list of information collection packages that will require clearance by the Office of Management and Budget (OMB) in compliance with Public Law (Pub. L.) 104-13, the Paperwork Reduction Act of 1995, effective October 1, 1995. The information collection packages included in this notice are for new information collections, revisions to OMB-approved information collections and extensions (no change) of OMB-approved information collections.

SSA is soliciting comments on the accuracy of the Agency's burden estimate; the need for the information; its practical utility; ways to enhance its quality, utility and clarity; and how to minimize the burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

Application for a Social Security Card—20 CFR 422.103-.110—0960-0066. Forms SS-5 (used in the United States) and SS-5-FS (used outside the United States) are to apply for original and replacement Social Security cards. Revisions are being made to the race/ethnicity question of the form to reflect OMB standards; additionally, several other minor changes are being made to the form's instructions. The respondents are applicants for original and replacement Social Security cards.

Type of Request: Revision to an OMB-approved information collection.

Application scenario | Number of annual respondents | Completion time | Burden hours
Respondents who do not have to provide parents' SSNs | 13,000,000 | 8½ | 1,841,667
Respondents who are asked to provide parents' SSNs (for application for original SSN cards for children under age 18) | 540,000 | 9 | 81,000
Applicants age 12 or older who need to answer additional questions so SSA can determine whether an SSN was previously assigned | 40,000 | 9½ | 6,333
Applicants asking for a replacement SSN card beyond the allowable limits (i.e., who must provide additional documentation to accompany the application) | 4,000 | 60 | 4,000
Totals | 13,584,000 |  | 1,933,000

II. The information collections listed below have been submitted to OMB for clearance. Your comments on the information collections would be most useful if received by OMB and SSA within 30 days from the date of this publication. You can obtain a copy of the OMB clearance packages by calling the SSA Reports Clearance Officer at 410-965-0454, or by writing to the address listed above.

1. State Mental Institution Policy Review Booklet—20 CFR 404.2035, 404.2065, 416.635, & 416.665—0960-0110. SSA uses the information collected on Form SSA-9584-BK to determine whether an institution's policies and practices conform with SSA's regulations in the use of benefits and whether the institution is performing other duties and responsibilities required of a representative payee. The information also provides a basis for conducting an onsite review of the institution and the subsequent report of findings. The respondents are State mental institutions which serve as representative payees for Social Security beneficiaries and Supplemental Security Income (SSI) claimants.

Type of Request: Extension of an OMB-approved information collection.

Number of Respondents: 95.

Frequency of Response: 1.

Average Burden Per Response: 60 minutes.

Estimated Annual Burden: 95 hours.

2. Development for Participation in a Vocational Rehabilitation or Similar Program—20 CFR 404.316(c), 404.337(c), 404.352(d), 404.1586(g), 404.1596, 404.1597(a), 404.327, 404.328, and 416.1338(c) and (d) 416.1320(d), 416.1331(a)-(b), and 416.1338—0960-0282. SSA State Disability Determination Services (DDS) must determine if a disability beneficiary who (1) no longer has a disability and (2) is enrolled in a vocational rehabilitation program can continue to receive Social Security disability benefits and SSI payments. To determine continuing eligibility, SSA needs information about the beneficiary, the type of program he/she is enrolled in and the types of services the beneficiary is receiving under the auspices of that program. SSA uses Form SSA-4290 to collect this information. The respondents are State Employment Networks, Vocational Rehabilitation agencies or other providers of education/job training services.

Type of Request: Extension of an OMB-approved information collection.

Number of Respondents: 3,000.

Frequency of Response: 1.

Average Burden Per Response: 15 minutes.

Estimated Annual Burden: 750 hours.

3. Social Security Statement Survey -0960-NEW.

Background

As per 42 U.S.C. 1320b-13, SSA is required to provide benefits and earnings statements to Social Security number-holders age 25 and over who earn wages. This document, provided annually, is called the Social Security Statement. In response to a recommendation from the Government Accountability Office (GAO), SSA has begun a systematic and regular evaluation of customer satisfaction with the Statement. To implement the GAO recommendations, SSA has developed a process for evaluating customer satisfaction with the Social Security Statement on a systematic and routine basis.

Description of Proposed Surveys

To take the evaluation process one step further, SSA is planning to conduct a national survey to monitor and improve customer satisfaction with the messages in the 2007 Statement. The 2007 Statement contains new Windfall Elimination Provision/Government Pension Offset (WEP/GPO) language as mandated by law. There are two versions of the WEP/GPO language in the Statement to accommodate different groups of wage-earners: Those who have an earnings history with both covered and non-covered earnings under Social Security and those who have only earnings covered under Social Security. Each group will receive a Statement with WEP/GPO language specific to them and will be surveyed to determine their satisfaction.

Information obtained through this evaluation will help SSA improve the Statement as a communications product that meets SSA's goals and assures the public is aware of, understands and can act upon the information the Statement provides in a timely way. The two groups of respondents match the two groups of wage earners.

Burden Information
| Number of respondents | Frequency of response | Average burden per response (minutes) | Estimated annual burden (hours)
Recipients with covered and non-covered earnings history | 600 | 1 | 10 | 100
Recipients with covered earnings only | 600 | 1 | 10 | 100
Total | 1200 |  |  | 200

4. Student Reporting Form—20 CFR 404.352(b)(2), 404.368, 404.415, 404.434, 422.135—0960-0088. SSA uses the information collected by Form SSA-1383 to determine the effect of reported events on Social Security student beneficiaries' continuing entitlement to these benefits.

Type of Request: Extension of an OMB-approved information collection.

Number of Respondents: 75,000.

Frequency of Response: 1.

Average Burden Per Response: 6 minutes.

Estimated Annual Burden: 7,500 hours.

5. Electronic Death Registration (EDR)—20 CFR 404.301; 404.310-311; 404.316; 404.330-341; 404.350-352; and 404.371; 416.912—0960-0700. SSA has contracted with the States to obtain death certificate information to compare it to SSA's payment files. This match ensures the accuracy of our payment files by detecting unreported or inaccurate dates of deaths of beneficiaries. Entitlement to retirement, disability, wife's, husband's or parent's benefits under the provisions of the Social Security Act terminates when the beneficiary dies.

Type of Request: Extension of an OMB-approved information collection.

Collection format | Number of respondents | Frequency of responses | Average cost per record request | Estimated annual cost burden
State Death Match—Manual Process | 35 | 50,000 per State | $0.72 | $1,260,000
State Death Match—Electronic Death Registration (EDR) | 18 | 50,000 per State | 2.58 | 2,322,000
Total | 53 |  |  | 3,582,000

Estimated Annual Cost for all respondents:

**Please note that both of these data matching processes are entirely electronic and there is no hourly burden for the respondent to provide this information. The cost burdens are based on the four cost components incurred by the respondents:

—Software;

—hardware;

—average annual salaries of database management personnel; and

—average annual salaries of support personnel.

6. Work Activity Report (Self-Employed Person)—20 CFR 404.1520(b), 404.1571-404.1576, 404.1584-404.1593, and 416.971-.976—0960-0598. SSA uses the information on Form SSA-820-F4 to determine initial or continuing eligibility for SSI or Social Security disability benefits. Under Titles II and XVI of the Act, applicants for disability benefits must prove an inability to perform any kind of Substantial Gainful Activity (SGA) generally available in the national economy for which they might be expected to qualify on the basis of age, education and work experience. SSA needs to secure information about this work to ascertain whether the applicant was (or is) engaging in SGA. Work after a claimant becomes entitled can cause the cessation of disability benefits. SSA needs the information obtained on Form SSA-820-F4 to determine if a cessation of benefits should occur. The respondents are applicants and claimants for SSI or Social Security disability benefits.

Type of Request: Extension of an OMB-approved information collection.

Number of Respondents: 100,000.

Frequency of Response: 1.

Average Burden Per Response: 30 minutes.

Estimated Annual Burden: 50,000 hours.

7. Modified Benefit Formula Questionnaire-Employer—20 CFR 401 & 402—0960-0477. When a claimant alleges receipt of a pension based on non-covered employment after 1956 and the claimant reaches age 62 or becomes disabled after 1985, SSA must determine whether the modified benefit formula is applicable and when to first apply it to a person's benefit. SSA collects information on Form SSA-58 to determine whether Social Security benefits should be adjusted. This form will be sent to an employer for pension-related information if the claimant is unable to provide it. The respondents are certain individuals who are eligible for both Social Security benefits and a pension based on work not covered by SSA.

Type of Request: Extension of an OMB-approved information collection.

Number of Respondents: 30,000.

Frequency of Response: 1.

Average Burden Per Response: 20 minutes.

Estimated Average Burden: 10,000 hours.

8. Disability Determination and Transmittal—20 CFR 404.1615(e), 416.1015(f)—0960-0437. SSA uses the information collected on Form SSA-831-C3/U3 to document the State agency determination as to whether an individual who applies for disability benefits is eligible for those benefits based on his/her alleged disability. SSA also uses the information for program management and evaluation. The respondents are State DDS adjudicating Title II and Title XVI disability determinations for SSA.

Type of Request: Extension of OMB-approved information collection.

Number of Respondents: 3,079,916.

Frequency of Response: 1.

Average Burden Per Response: 15 minutes.

Estimated Average Burden: 769,979 hours.

9. Cessation or Continuance of Disability or Blindness Determination—20 CFR 404.1615. 416.1015—0960-0443. SSA uses the information on Form SSA-832-U3/C3 to document whether an individual's disability benefits should be terminated or continued on the basis of his/her impairment. The respondents are State DDS employees adjudicating Title II and Title XVI disability claims.

Type of Request: Extension of an OMB-approved information collection.

Number of Respondents: 200,753.

Frequency of Response: 1.

Average Burden Per Response: 30 minutes.

Estimated Annual Burden: 100,376 hours.

10. Employer Report of Special Wage Payments—20 CFR 404.428-404.429—0960-0565. SSA gathers the information on Form SSA-131 to prevent earnings-related overpayments to Social Security beneficiaries, and to avoid erroneous withholding of benefits. The respondents are employers who provide special wage payment verification.

Type of Request: Extension of an OMB-approved information collection.

Number of Respondents: 30,000.

Frequency of Response: 1.

Average Burden of Response: 20 minutes.

Estimated Average Burden: 10,000 hours.

Dated: January 11, 2008.
Elizabeth A. Davidson,
Reports Clearance Officer, Social Security Administration.

[FR Doc. E8-810 Filed 1-16-08; 8:45 am]

BILLING CODE 4191-02-P